DEPARTMENT OF TRANSPORTATION

Federal Aviation Administration

Announcement of Receipt of Notice of Proposed Restriction on Stage 2 Operations at Naples Municipal Airport, Naples, Florida

AGENCY: Federal Aviation Administration (FAA), DOT.

ACTION: Notice of Proposed Restriction on Stage 2 Operations.

The Federal Aviation Administration (FAA) has been notified by the Naples Municipal Airport that it proposes to prohibit operations by aircraft certificated as Stage 2 under the Federal Aviation Regulations (FAR) Part 36. The Naples Municipal Airport has provided notice of the proposed restriction and an opportunity to comment to the public pursuant to the Airport Noise and Capacity Act of 1990 and 14 CFR Part 161.

In its published notice scheduled to be printed on June 30, July 10 and August 13, 2000, in the Naples Daily News and the FT. Myers News Press, the Naples Municipal Airport proposes to prohibit all Stage 2 jet aircraft operations effective January 1, 2001.

Further information, copies of the complete text of the proposed restriction, and copies of the supporting analysis may be obtained at the offices of the City of Naples Airport Authority, 160 Aviation Drive North, Naples, Florida 34104-3568 during regular business hours.

Comments on the proposed restriction may be submitted to: City of Naples Airport Authority, ATTN: Lisa LeBlanc-Hutchings, 160 Aviation Drive North, Naples, Florida 34104-3568, Email: administration@flynaples.com, FAX (941) 643-4084.

All comments must be received by August 21, 2000, to be considered.

Issued in Orlando, Florida on June 30, 2000.
John W. Reynolds, Jr.
Acting Manager, Orlando Airports District Office.

[FR Doc. 00-17379 Filed 7-7-00; 8:45 am]

BILLING CODE 4910-13-M